Proclamation 7277 of February 29, 2000

Women's History Month, 2000

By the President of the United States of America

A Proclamation

Last spring, three women astronauts paused during a shuttle mission to pay homage to the past. Thousands of miles into space, floating above the floor of the shuttle, they raised a women's suffrage banner and posed for a picture. Astronaut Ellen Ochoa, a participant in this special tribute and a member of the President's Commission on the Celebration of Women in American History, said, “We wanted to show how far women have come in this century and to honor the people who fought for our rights.” Each year during the month of March, citizens across our country pause to honor the many heroes whose diligence and determination have helped to forge our Nation and enable people like Ellen Ochoa and her colleagues to soar so high.

Women's History Month is about highlighting the extraordinary achievements of women throughout our history, while recognizing the equally significant obstacles they had to overcome along the road to success. It is about the women who bravely donned uniforms and fought for our country. It is about the passion and vision of women educators like Mary McLeod Bethune, who, with only $1.50 in her pocket, founded a school for young black women. It is about the perseverance and pioneering spirit of women like Margaret Chung, the first Chinese American woman physician, who supported herself through medical school by washing dishes and lecturing on China. It is about Alice Paul's fight for the vote and Elizabeth Wanamaker Peratrovich's campaign to end discrimination against Alaska Natives. It is about the writings of Zora Neale Hurston, the paintings of Georgia O'Keeffe, the leadership of labor organizer Dolores Huerta, and the trailblazing artistry of photographer Margaret Bourke-White. It is also about the millions of unsung women whose contributions have made life better for their families and their communities.

Inspired by the courageous pioneers who came before them, women today continue to shape our Nation's destiny. Last year, Air Force Lieutenant Colonel Eileen Collins became the first woman commander of a space shuttle mission. American violinists Sarah Chang, Pamela Frank, and Nadja Salerno-Sonnenberg were the first women to take home the prestigious Avery Fisher Prize in its 25-year history. And, in a game attended by the largest crowd of all time for a women's sporting event, the U.S. women's soccer team captured the World Cup. Today, 58 women hold seats in the U.S. House of Representatives, and 9 women are United States Senators. More women hold high-level positions in my Administration than in any other in history. And in the private sector, women own nearly 9 million small businesses, employing millions of Americans and contributing significantly to the strength of our economy.

As we honor the past and celebrate the present, we must also focus on the future. Our choices today will have an enormous impact on the destiny of our daughters and granddaughters, our sons and grandsons. We must rededicate ourselves to forging a society in which gender no longer predetermines a person's opportunities or station in life. We must shatter the glass ceiling; eradicate wage discrimination; and ensure that every American has the tools to meet both family and work responsibilities and to retire in security. By breaking down the remaining barriers and opening wide the doors of opportunity, we can make the future brighter for women and for all Americans.

NOW, THEREFORE, I, WILLIAM J. CLINTON, President of the United States of America, by virtue of the authority vested in me by the Constitution and laws of the United States, do herebyproclaim March 2000 as Women's History Month. I encourage all Americans to observe this month with appropriate programs, ceremonies, and activities, and to remember throughout the year the many contributions of courageous women who have made our Nation strong.

IN WITNESS WHEREOF, I have hereunto set my hand this twenty-ninth day of February, in the year of our Lord two thousand, and of the Independence of the United States of America the two hundred and twenty-fourth.

wj

[FR Doc. 00-5208

Filed 3-1-00; 8:45 am]

Billing code 3195-01-P